DEPARTMENT OF HOUSING AND URBAN DEVELOPMENT

[Docket No. FR-7028-N-06]

60-Day Notice of Proposed Information Collection: Moving to Work Demonstration; OMB Control No.: 2577-0216

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 3, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, (L'Enfant Plaza, Room 2206), Washington, DC 20410; telephone 202-402-3374, (this is not a toll-free number). Persons with hearing or speech impairments may access this number via TTY by calling the Federal Information Relay Service at (800) 877-8339. Copies of available documents submitted to OMB may be obtained from Ms. Rogers.

SUPPLEMENTARY INFORMATION: This notice informs the public that HUD is seeking approval from OMB for the information collection described in Section A.

A. Overview of Information Collection

Title of Information Collection: Moving to Work (MTW) Demonstration.

OMB Approval Number: Control Number 2577-0216.

Type of Request: Revision of a currently approved collection.

Form Number: HUD-50900.

Description of the need for the information and proposed use: All public housing authorities (PHA) are required to submit a five (5) year plan and annual plans as stated in Section 5A of the 1937 Act, as amended; however, the 39 existing MTW PHAs with a Standard MTW Agreement must submit an Annual MTW Plan and Annual MTW Report (Form 50900) in lieu of the standard PHA plan documents.

As the 2016 MTW Expansion Statute directs, HUD is authorized to expand the MTW demonstration program from the current level of 39 agencies to an additional 100 agencies over a period of seven years, ending in 2022. However, as is also required by 2016 MTW Expansion Statute, HUD also intends to designate these 100 new agencies in cohorts over a period of seven years, ending in 2022. Interested potential applicants, new PHAs, must submit applications to participate in the program. Each selected applicant will be placed into a specific cohort. For each cohort of PHAs selected, the 2016 MTW Expansion Statute requires HUD to direct one specific policy change to be implemented by the new MTW PHAs, which HUD will evaluate rigorously. These new MTW PHAs will be required to annually submit a new form titled, “The Supplement to the Annual PHA Plan,” and as such they will not be required to complete or submit this revised Form 50900.

The MTW Demonstration was authorized under Section 204 of the Omnibus Consolidated Rescissions and Appropriations Act of 1996 (Pub. L. 104-134, 110 Stat 1321), dated April 26, 1996. The original MTW Demonstration statute permitted up to 30 PHAs to participate in the demonstration program. Nineteen PHAs were selected for participation in the MTW demonstration in response to a HUD Notice, published in the Federal Register on December 18, 1996, and five of the 30 slots were filled through the Jobs-Plus Community Response Initiative.

Additional MTW `slots' have been added by Congress over time through appropriations statutes. Two PHAs were specifically named and authorized to join the demonstration in 1999 under the VA, HUD, and Independent Agencies Appropriations Act of 1999 (Pub L. 105-276, 112 Stat. 2461), dated October 21, 1998. A Public and Indian Housing Notice (PIH Notice 2000-52) issued December 13, 2000 allowed up to an additional 6 PHAs to participate in the MTW demonstration. The Consolidated Appropriations Act, 2008 (Pub L. 110-161, 121 Stat. 1844) added four named PHAs to the Moving to Work demonstration program.

Subsequent appropriations acts for 2009, 2010, and 2011 authorized a total of 12 additional MTW slots. As part of HUD's 2009 budget appropriation (Section 236, title II, division I of the Omnibus Appropriations Act, 2009, enacted March 11, 2009), Congress directed HUD to add three agencies to the MTW program. As part of HUD's 2010 budget appropriation (Section 232, title II, division A of the Consolidated Appropriations Act, 2010, enacted December 16, 2009), Congress authorized HUD to add three agencies to the MTW demonstration. In 2011, Congress again authorized HUD to add three MTW PHAs pursuant to the 2010 Congressional requirements.

A Standard MTW Agreement (Standard Agreement) was developed in 2007 and was transmitted to the existing MTW PHAs in January 2008. As additional MTW PHAs were selected, they too were provided with the Standard Agreement. As established by the Consolidated Appropriations Act, 2016, all 39 existing MTW PHAs continue to operate under the Standard Agreement, which was extended to 2028.

Under the Standard Agreement, all MTW PHAs are authorized to combine their operating, modernization and housing choice voucher funding, hereinafter referred to as “MTW Funding.” Also, because they cannot conform with the requirement for the regular PHA annual and 5 year plans and because HUD requires different information from these MTW PHAs for program oversight purposes as defined by the Standard Agreement, these sites are required to submit an MTW Annual Plan and an MTW Annual Report in accordance with their MTW Agreement, in lieu of the regular PHA annual and 5-year plans.

Through the MTW Annual Plan and Report, each MTW PHA will inform HUD, its residents and the public of the PHA's mission and strategy for serving the needs of low-income and very low-income families. The MTW Annual Plan, like the PHA Annual Plan, provides an easily identifiable source by which residents, participants in tenant-based programs, and other members of the public may locate policies, rules, and requirements concerning the PHA's operations, programs, and services. Revisions are being made to this Form 50900 to improve its usability and to address minor issues identified by HUD and the MTW PHAs over time, including the following:

1. Simplification of information submitted annually by the PHA.

2. Clarification and reimagining of the information to be reported, annually, that will lead to the ability to “tell the story” of the Moving to Work demonstration as a whole.

3. Addition of language regarding unspent Operating and Voucher Reserves to increase the transparency locally and the planned use of the funds.

4. Support and increase local communities' knowledge and understanding of the MTW Program by requiring the inclusion of the PHA's Hardship Policy as an appendix to the MTW Annual Plan.

HUD is very interested in feedback from the interested stakeholders, MTW PHAs, and the community on this Form 50900 and the proposed revisions as presented.

Respondents: The respondents to this PRA are the 39 Public Housing Authorities (PHAs) that had MTW designation as of December 15, 2015 and potential applicants that may be submitting applications to participate in the program.

Estimated Number of Respondents: The estimated number of respondents is 39.

Estimated Number of Responses: There are 78 submissions per year, reflecting the 39 PHAs. Each submission is comprised of 7 sections each requiring a response. All 7 sections are completed with the first annual submission (Plan), and 5 of the 7 sections are completed with the second annual submission (Report). This results in a total of 2 submissions per PHA, across all 39 affected PHAs or 78 total responses, that include 468 sections.

Frequency of Response: MTW PHAs complete requirements associated with this Form twice per year (Plan and Report). In the Plan, the PHA completes each of the 7 sections of the Form. In the Report, the PHA completes only 5 of the 7 sections of the Form.

Average Hours per Response: The estimated average burden is 40.5 hours per response (or 81 total hours per year).

Total Estimated Burdens: The total estimated burdens are 81, given each PHA completes the form twice per year (Plan and Report).

Program information | Respondents | Annual responses per respondent | Total responses per year | Burden per year per respondent | Total burden hours | * Hourly cost | Cost burden
Application | 50 | 1 | 50 | 20 | 1000 | 55.94 | $55,940
50900 “Annual MTW Plan and Report Elements”
Introduction | 39 | ¹ 2 | 78 | 1 | 78 | 55.94 | 4,363.32
General Housing Authority Information | 39 | * 2 | 78 | 8 | 624 | 55.94 | 34,906.56
Proposed MTW Activities | 39 | ² 1 | 39 | 37 | 1443 | 55.94 | 80,721.42
Ongoing MTW Activities | 39 | * 2 | 78 | 15 | 1170 | 55.94 | 65,449.80
Sources and Uses of Funding | 39 | * 2 | 78 | 8 | 624 | 55.94 | 34,906.56
Administrative | 39 | * 2 | 78 | ³ 7 | 546 | 55.94 | 30,543.24
Certifications of Compliance | 39 | ⁴ 1 | 39 | 5 | 195 | 55.94 | 10,908.30
Total Burden | 89 total | varies | 518 | 101 | 5,680 |  | 317,739.20
¹ Submits 2 responses each year: Once in Annual MTW Plan, once in Annual MTW Report.
² Submits 1 response each year: Once in Annual MTW Plan.
³ MTW PHAs do not have to submit HUD form 50077, Plan certification, and elements of this form have been included in this collection process and the total number of burden hours has been adjusted accordingly.
⁴ Submits one response each year: In Annual MTW Report.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including annual reporting based on the activities performance as related to the MTW program statutory objectives and through the use of appropriate automated collection techniques or other forms of information technology, e.g., permitting electronic submission of responses.

HUD encourages interested parties to submit comment in response to these questions.

C. Authority

Section 3507 of the Paperwork Reduction Act of 1995, 44 U.S.C. Chapter 35.

Dated: August 28, 2020.
Merrie Nichols-Dixon,
Deputy Director, Office of Policy, Programs and Legislative Initiatives.

[FR Doc. 2020-19614 Filed 9-3-20; 8:45 am]

BILLING CODE 4210-67-P